DEPARTMENT OF TRANSPORTATION

Federal Aviation Administration

14 CFR Part 25

[Docket No. FAA-2005-22840; Amendment No. 25-121]

RIN 2120-AI14

Airplane Performance and Handling Qualities in Icing Conditions

Correction

In rule document E7-14937 beginning on page 44656 in the issue of Wednesday, August 8, 2007, make the following corrections:

§ 25.125 [Corrected]

1. On page 44667, in the first column, in § 25.125(b)(2)(ii)(B), in the first line, “VSR0” should read “VSR0”.

Apendix C of Part 25 [Corrected]

2. On page 44669, in the second column, in Appendix C of Part 25, in the third line, “(-9( C)” should read

“(-9° C)”.

[FR Doc. Z7-14937 Filed 8-30-07; 8:45 am]

BILLING CODE 1505-01-D